DEPARTMENT OF EDUCATION

Office of Vocational and Adult Education; Overview Information; Native Hawaiian Career and Technical Education Program (NHCTEP); Notice Inviting Applications for New Awards for Fiscal Year (FY) 2006

Catalog of Federal Domestic Assistance (CFDA) Number: 84.259A.

Dates:

Applications Available: July 5, 2007.

Deadline for Transmittal of Applications: August 6, 2007.

Eligible Applicants: (a) Community-based organizations primarily serving and representing Native Hawaiians. For purposes of NHCTEP, a community-based organization means a public or private nonprofit organization that provides career and technical education, or related services, to individuals in the Native Hawaiian community.

(b) Any community-based organization may apply individually or as a part of a consortium with one or more eligible community-based organizations. (34 CFR 75.127)

Note: An applicant must include documentation, including proof of its non-profit status in accordance with 34 CFR 75.51, in its application showing that it and, if applicable, consortium members are eligible according to the requirements in paragraphs (a) and (b) of the Eligible Applicants section of this notice.

Estimated Available Funds: $2,956,000 for the first 12 months of the 24-month project period. Funding for the second year is subject to the availability of funds and to a grantee meeting the requirements of 34 CFR 75.253. FY 2006 funds will be used for new awards under this competition.

Estimated Range of Awards: $250,000-$500,000.

Estimated Average Size of Awards: $295,600.

Estimated Number of Awards: 10.

Note: The Department is not bound by any estimates in this notice.

Project Period: Up to 24 months.

I. Funding Opportunity Description

Purpose of Program: The Native Hawaiian Career and Technical Education Program (NHCTEP) provides grants to eligible applicants to plan, conduct, and administer programs, or portions of programs, that are authorized by and consistent with the purposes of section 116 of the Carl D. Perkins Career and Technical Education Act of 2006 (Act) for the benefit of Native Hawaiians.

Background Information

For the convenience of applicants, we describe in this notice the major statutory changes made to the Carl D. Perkins Vocational and Technical Education Act of 1998 (Perkins III), which was amended by the Act, that affect NHCTEP.

Statutory Changes Affecting NHCTEP

(a) Community-based organizations. Under the previous authority for this program, section 116(h) of Perkins III, the Secretary awarded grants or entered into contracts with organizations primarily serving and representing Native Hawaiians that were recognized by the Governor of the State of Hawaii to plan, conduct, and administer programs, or portions thereof, authorized by and consistent with the provisions of Perkins III. Under the new program authority, in section 116(h) of the Act, the Secretary awards grants or enters into contracts with community-based organizations primarily serving and representing Native Hawaiians to plan, conduct, and administer programs, or portions thereof, that are authorized by and consistent with the provisions of section 116 of the Act for the benefit of Native Hawaiians. As a result of this change, the Secretary will be making multiple grant awards in FY 2007, rather than making a single award; FY 2007 awards will be made only to community based organizations; and the Governor of the State of Hawaii will not have a role in determining which community based organizations receive NHCTEP awards.

(b) Purpose. In the Act, Congress has expanded and added elements to the statement of purpose, most significantly by stating that, among other statutory purposes, programs should build on the efforts of States and localities to develop challenging academic and technical standards and to assist students in meeting such standards, including in preparation for high-skill, high-wage, or high-demand occupations in emerging or established professions. (20 U.S.C. 2301(1)) Congress also has added to the statement of purpose the requirement that programs provide technical assistance that promotes leadership, initial preparation, and professional development at the State and local levels, and improves the quality of, career and technical education teachers, faculty, administrators, and counselors. (20 U.S.C. 2301(5)) Additionally, the Act's purpose section has been amended to include supporting partnerships among secondary schools, postsecondary institutions, baccalaureate degree-granting institutions, area career and technical education schools, local workforce investment boards, business and industry, and intermediaries, as well as providing individuals with opportunities throughout their lives to develop, in conjunction with other education and training programs, the knowledge and skills needed to keep the United States competitive. (20 U.S.C. 2301(6) and (7))

(c) Definitions. In the Act, Congress has amended the definitions of certain terms that affect NHCTEP. Most significantly, the term “career and technical education” has replaced the term “vocational and technical education” throughout the Act. Thus, in this notice we use the term “career and technical education.” Moreover, under the new definition of career and technical education, the sequence of courses provided as part of a career and technical education program must provide students with coherent and rigorous content aligned with challenging academic standards and relevant technical knowledge and skills needed to prepare for further education and careers in current or emerging professions. (20 U.S.C. 2302(5)(A)(i)) Under section 8(e) of the Act, for secondary programs, “coherent and rigorous content” is determined in a manner consistent with section 1111(b)(1)(D) of the Elementary and Secondary Education Act of 1965, as amended (ESEA). (20 U.S.C. 2306a)

(d) Special Populations. Paragraph (F) of the definition of “Special Populations” in section 3(29) of the Act uses the term “individuals with limited English proficiency” instead of the phrase “individuals with other barriers to educational achievement, including individuals with limited English proficiency” that was used in Perkins III. (20 U.S.C. 2302(29)(F)) Although the Act no longer includes, within the definition of “special populations,” the phrase “individuals with other barriers to educational achievement,” under section 324 of the Act, NHCTEP students with other barriers to educational achievement may receive assistance for tuition and fees, dependent care, transportation, books, and supplies that are necessary for a student to participate in a project funded under this program. (20 U.S.C. 2414(b))

Note: Refer to the Direct assistance to students and Student stipends sections of this notice for guidance on providing financial assistance for tuition, dependent care, transportation, books, supplies, and stipends.

Authorized Programs, Services, and Activities

(a) Authorized Programs. Under section 116(e) of the Act, educational programs, services, and activities funded under NHCTEP must support and help to improve career and technical education programs. (20 U.S.C. 2326(e)) This requirement, along with the statutory definition of career and technical education, aligns NHCTEP with other programs authorized under the Act that require grantees to offer a sequence of courses that provides individuals with coherent and rigorous content aligned with challenging academic standards and relevant technical knowledge and skills needed to prepare for further education and careers in current or emerging professions. (20 U.S.C. 2302(5)) Under section 116(h) of the Act, eligible community-based organizations receive NHCTEP grants to plan, conduct, and administer programs, or portions thereof, that are consistent with the purposes of section 116 of the Act, for the benefit of Native Hawaiians.

Under this competition the Secretary awards grants to carry out projects that—

(1) Provide organized educational activities offering a sequence of courses that—

(i) Provide individuals with coherent and rigorous content aligned with challenging academic standards and relevant technical knowledge and skills needed to prepare for further education and careers in current or emerging professions;

(ii) Provide technical skill proficiency, an industry-recognized credential, a certificate, or an associate degree; and

(iii) Include competency-based applied learning that contributes to the academic knowledge, higher-order reasoning and problem-solving skills, work attitudes, general employability skills, technical skills, and occupation-specific skills, and knowledge of all aspects of an industry, including entrepreneurship, of an individual.

Projects may include prerequisite courses (other than remedial courses) that meet the definitional requirements of section 3(5)(A) of the Act. (20 U.S.C. 2302(5)(A)) In addition, at the secondary level, coherent and rigorous academic curriculum must be aligned with challenging academic content standards and student achievement standards in reading/language arts and mathematics that the State in which the applicant is located has established under the ESEA. Contacts for State NCLB programs may be found on the Internet at: http://www.ed.gov/about/contacts/State/index.html;

(2) Develop new programs, services, or activities or improve or expand existing programs, services, or activities that are consistent with the purposes of the Act. In other words, the Department will support “expansions” or “improvements” that include, but are not necessarily limited to, the expansion of effective programs or practices; upgrading of activities, equipment, or materials; increasing staff capacity; adoption of new technology; modification of curriculum; or implementation of new policies to improve program effectiveness and outcomes; and

(3) Funds a career and technical education program, service, or activity that—

(i) Is a new program, service, or activity that was not provided by the applicant during the instructional term (a defined period, such as a semester, trimester, or quarter, within the academic year) that preceded the request for funding under NHCTEP;

(ii) Will improve or expand an existing career and technical education program; or

(iii) Inherently improves career and technical education.

Note: A program, service, or activity “inherently improves career and technical education” if it—

(a) Develops new career and technical education programs of study that will be approved by the appropriate accreditation agency;

(b) Strengthens the rigor of the academic and career and technical components of funded programs;

(c) Uses curriculum that is aligned with industry-recognized standards and will result in students attaining industry-recognized credentials, certificates, or degrees;

(d) Integrates academics (other than remedial courses) with career and technical education programs through a coherent sequence of courses to ensure learning in the core academic and career and technical subjects;

(e) Links career and technical education at the secondary level with career and technical education at the postsecondary level and facilitates students' pursuit of a baccalaureate degree;

(f) Expands the scope, depth, and relevance of curriculum, especially content that provides students with a comprehensive understanding of all aspects of an industry and a variety of hands-on, job-specific experiences; and

(g) Offers—

(1) Work-related experience, internships, cooperative education, school-based enterprises, entrepreneurship, community service learning, and job shadowing that are related to career and technical education programs;

(2) Coaching/mentoring, support services, extra help for students after school, on the weekends, and/or during the summers so they can meet higher standards;

(3) Career guidance and academic counseling for students participating in career and technical education programs under NHCTEP;

(4) Placement services for students who have successfully completed career and technical education programs and attained a technical skill proficiency that is aligned with industry-recognized standards;

(5) Professional development programs for teachers, counselors, and administrators;

(6) Strong partnerships among grantees and local educational agencies, postsecondary institutions, community leaders, adult education providers, and, as appropriate, other entities, such as employers, labor organizations, parents, and local partnerships, to enable students to achieve State academic standards and career and technical skills;

(7) The use of student assessment and evaluation data to improve continually instruction and staff development; or

(8) Research, development, demonstration, dissemination, evaluation and assessment, capacity-building, and technical assistance related to career and technical education programs.

(b) Student stipends.

(1) A portion of an award under this program may be used to provide stipends to help students meet the costs of participation in a NHCTEP project.

(2) To be eligible for a stipend a student must—

(i) Be enrolled in a career and technical education project funded under this program;

(ii) Be in regular attendance in a NHCTEP project and meet the training institution's attendance requirement;

(iii) Maintain satisfactory progress in his or her program of study according to the training institution's published standards for satisfactory progress; and

(iv) Have an acute economic need that—

(A) Prevents participation in a project funded under this program without a stipend; and

(B) Cannot be met through a work-study program.

(3) The amount of a stipend is the greater of either the minimum hourly wage prescribed by State or local law, or the minimum hourly wage established under the Fair Labor Standards Act.

(4) A grantee may award a stipend only if the stipend combined with other resources the student receives does not exceed the student's financial need. A student's financial need is the difference between the student's cost of attendance and the financial aid or other resources available to defray the student's cost of attending a NHCTEP project.

(5) To calculate the amount of a student's stipend, a grantee would multiply the number of hours a student actually attends career and technical education instruction by the amount of the minimum hourly wage that is prescribed by State or local law or by the minimum hourly wage that is established under the Fair Labor Standards Act.

Example: If a grantee uses the Fair Labor Standards Act minimum hourly wage of $5.15 and a student attends classes for 20 hours a week, the student's stipend would be $103 for the week during which the student attends classes ($5.15 × 20 = $103).

Note: Grantees must maintain records that fully support their decisions to award stipends to students, as well as the amounts that are paid, such as proof of a student's enrollment in the NHCTEP project, stipend applications, timesheets showing the number of hours of attendance that are confirmed in writing by an instructor, student financial status information, and evidence that a student could not participate in the NHCTEP project without a stipend. (20 U.S.C. 1232f; 34 CFR 75.700-75.702; 75.730; and 75.731)

(6) An eligible student may earn a stipend when taking a course for the first time, although a stipend may not be provided to a student who has already taken, completed, and had the opportunity to benefit from a course and is merely repeating the course.

(7) An applicant must include, in its application, the procedure it intends to use to determine student eligibility for stipends and stipend amounts, and its oversight procedures for the awarding and payment of stipends.

(c) Direct assistance to students. A grantee may provide direct assistance to a student only if the following conditions are met:

(1) The recipient of the direct assistance is an individual who is a member of a special population and who is participating in a NHCTEP project.

(2) The direct assistance is needed to address barriers to the individual's successful participation in a NHCTEP project.

(3) The direct assistance is part of a broader, more generally focused program or activity to address the needs of an individual who is a member of a special population.

Note: Direct assistance to individuals who are members of special populations is not, by itself, a “program or activity for special populations.”

(4) The grant funds used for direct assistance must be expended to supplement, and not supplant, assistance that is otherwise available from non-Federal sources. For example, generally, a community-based organization could not use NHCTEP funds to provide child care for single parents if non-Federal funds previously were made available for this purpose, or if non-Federal funds are used to provide child care services for single parents participating in non-career and technical education programs and these services otherwise would have been available to career and technical education students in the absence of NHCTEP funds.

(5) In determining how much of the NHCTEP grant funds it will use for direct assistance to an eligible student, a grantee considers whether the specific services to be provided are a reasonable and necessary cost of providing career and technical education programs for special populations. However, the Secretary does not envision a circumstance in which it would be a reasonable and necessary expenditure of NHCTEP project funds for a grantee to utilize a majority of a project's budget to pay direct assistance to students, in lieu of providing the students served by the project with career and technical education.

Additional Program Requirements

(a) Career and technical education agreement. Any applicant that is not proposing to provide career and technical education directly to Native Hawaiian students and proposes instead to pay one or more qualified educational entities to provide such career and technical education to Native Hawaiian students must include with its application a written career and technical education agreement between the applicant and the educational entity. The written agreement must describe the commitment between the applicant and the educational entity and must include, at a minimum, a statement of the responsibilities of the applicant and the entity. The agreement must be signed by the appropriate individuals on behalf of each party, such as the authorizing official or administrative head of the applicant Native Hawaiian community-based organization.

(b) Limitation on services. Section 315 of the Act prohibits the use of funds received under the Act to provide career and technical education programs to students prior to the seventh grade.

(c) Supplement-Not-Supplant. In accordance with section 311(a) of the Act, funds under this program may not be used to supplant non-Federal funds used to carry out career and technical education activities and tech prep program activities. Furthermore, the prohibition against supplanting also means that grantees are required to use their negotiated restricted indirect cost rates under this program. (34 CFR 75.563).

The Secretary cautions applicants not to plan to use funds under NHCTEP to replace otherwise available non-Federal funding for “direct assistance to students,” (as defined elsewhere in this notice) and family assistance programs. For example, NHCTEP funds must not be used to supplant non-Federal funds to pay the costs of students' tuition, dependent care, transportation, books, supplies, and other costs associated with participation in a career and technical education program.

Further, funds under NHCTEP may not be used to replace Federal student financial aid. The Secretary wishes to highlight that the Act does not authorize the Secretary to fund projects that serve primarily as entities through which students may apply for and receive tuition and other financial assistance.

Evaluation Requirements

To ensure the high quality of NHCTEP projects and the achievement of the goals and purposes of section 116(h) of the Act, each grantee must budget for and conduct an ongoing evaluation of the effectiveness of its program. An independent evaluator must conduct the evaluation. The evaluation must—

(a) Be appropriate for the project and be both formative and summative in nature; and

(b) Include—

(1) Collection and reporting of the performance measures for NHCTEP that are identified in the Performance Measures section of this notice; and

(2) Qualitative and quantifiable data with respect to—

(i) Academic and career and technical competencies demonstrated by the participants and the number and kinds of academic and work credentials acquired by individuals, including participation in programs providing skill proficiency assessments, industry certifications, or training at the associate degree level that is articulated with an advanced degree option;

(ii) Enrollment, completion, and placement of participants by gender, for each occupation for which training was provided;

(iii) Job or work skill attainment or enhancement, including participation in apprenticeship and work-based learning programs, and student progress in achieving technical skill proficiencies necessary to obtain employment in the field for which the student has been prepared, including attainment or enhancement of technical skills in the industry the student is preparing to enter;

(iv) Activities during the formative stages of the project, to help guide and improve the project, as well as a summative evaluation that includes recommendations for disseminating information on project activities and results;

(v) The number and percentage of students who obtained industry-recognized credentials, certificates, or degrees;

(vi) The outcomes of students' technical assessments, by type and scores, if available;

(vii) The rates of attainment of a proficiency credential or certificate, in conjunction with a secondary school diploma;

(viii) The effectiveness of the project, including a comparison between the intended and observed results and a demonstration of a clear link between the observed results and the specific treatment given to project participants;

(ix) The extent to which information about or resulting from the project was disseminated at other sites, such as through the grantee's development and use of guides or manuals that provide step-by-step directions for practitioners to follow when initiating similar efforts; and

(x) The impact of the project, e.g., follow-up data on students' employment, sustained employment, promotions, further and continuing education or training, or the impact the project had on Native Hawaiian economic development or career and technical education activities.

Definitions

Acute economic need means an income that is at or below the national poverty level according to the latest available data from the U.S. Department of Commerce or the U.S. Department of Health and Human Services Poverty Guidelines.

Career and technical education means organized educational activities that—

(a) Offer a sequence of courses that—

(1) Provides individuals with coherent and rigorous content aligned with challenging academic standards and relevant technical knowledge and skills needed to prepare for further education and careers in current or emerging professions;

(2) Provides technical skills proficiency, an industry-recognized credential, a certificate, or an associate degree; and

(3) May include prerequisite courses (other than remedial courses) that meet the requirements of this definition; and

(b) Include competency-based applied learning that contributes to the academic knowledge, higher-order reasoning and problem-solving skills, work attitudes, general employability skills, technical skills, and occupation-specific skills, and knowledge of all aspects of an industry, including entrepreneurship, of an individual. (20 U.S.C. 2302(5))

Coherent sequence of courses means a series of courses in which career and academic education is integrated, and that directly relates to, and leads to, both academic and occupational competencies. The term includes competency-based education and academic education, and adult training or retraining, including sequential units encompassed within a single adult retraining course, that otherwise meets the requirements of this definition.

Direct assistance to students means tuition, dependent care, transportation, books, and supplies that are necessary for a student to participate in a project funded under this program.

Individual with a disability means an individual with any disability (as defined in section 3 of the Americans with Disabilities Act of 1990 (42 U.S.C. 12102)). (20 U.S.C. 2302(17))

Individual with limited English proficiency means a secondary school student, an adult, or an out-of-school youth, who has limited ability in speaking, reading, writing, or understanding the English language, and—

(a) Whose native language is a language other than English; or

(b) Who lives in a family or community environment in which a language other than English is the dominant language. (20 U.S.C. 2302(16))

Native Hawaiian means any individual any of whose ancestors were natives, prior to 1778, of the area that now comprises the State of Hawaii. (20 U.S.C. 2326(a)(4))

Non-traditional fields means occupations or fields of work, including careers in computer science, technology, and other current and emerging high-skill occupations, for which individuals from one gender comprise less than 25 percent of the individuals employed in each such occupation or field of work. (20 U.S.C. 2302(20))

Special populations means—

(a) Individuals with disabilities;

(b) Individuals from economically disadvantaged families, including foster children;

(c) Individuals preparing for non-traditional fields;

(d) Single parents, including single pregnant women;

(e) Displaced homemakers; and

(f) Individuals with limited English proficiency. (20 U.S.C. 2302(29))

Stipend means a subsistence allowance for a student that is necessary for the student to participate in a project funded under this program.

Support services means services related to curriculum modification, equipment modification, classroom modification, supportive personnel, and instructional aids and devices. (20 U.S.C. 2302(31))

Waiver of Proposed Rulemaking: Under the Administrative Procedure Act (5 U.S.C. 553), the Department generally offers interested parties the opportunity to comment on proposed non-statutory requirements, definitions, and selection criteria. However, section 437(d)(1) of the General Education Provisions Act (GEPA) (20 U.S.C. 1232(d)(1)), allows the Secretary to exempt from rulemaking requirements, non-statutory requirements, definitions, and selection criteria governing the first grant competition under a new or substantially revised program authority. This is the first grant competition for this program under section 116 of the Act and, therefore, qualifies for this exemption. In order to ensure timely grant awards, the Secretary has decided to forgo public comment on the non-statutory requirements, definitions, and selection criteria under the authority of section 437(d)(1) of GEPA. These non-statutory requirements, definitions, and selection criteria will apply to the FY 2006 competition only.

Program Authority: The Carl D. Perkins Career and Technical Education Act of 2006 (Act), Public Law 109-270, 20 U.S.C. 2301, et seq., in particular, section 116(a)-(h). (20 U.S.C. 2326(a)-(h))

Applicable Regulations: The Education Department General Administrative Regulations (EDGAR) in 34 CFR parts 74, 75, 77, 81, 82, 84, 85, 86, 97, 98, and 99.

II. Award Information

Type of Award: Discretionary grants.

Estimated Available Funds: $2,956,000 for the first 12 months of the 24-month project period. Funding for the second year is subject to the availability of funds and to a grantee meeting the requirements of 34 CFR 75.253.

Estimated Range of Awards: $250,000-$500,000.

Estimated Average Size of Awards: $295,600.

Estimated Number of Awards: 10.

Note: The Department is not bound by any estimates in this notice.

Project Period: Up to 24 months.

III. Eligibility Information

1. Eligible Applicants: (a) Community-based organizations primarily serving and representing Native Hawaiians. For purposes of NHCTEP, a community-based organization means a public or private nonprofit organization that provides career and technical education, or related services, to individuals in the Native Hawaiian community.

(b) Any community-based organization may apply individually or as a part of a consortium with one or more eligible community-based organizations. (34 CFR 75.127)

Note: An applicant must include documentation, including proof of its non-profit status in accordance with 34 CFR 75.51, in its application showing that it and, if applicable, consortium members are eligible according to the requirements in paragraphs (a) and (b) of the Eligible Applicants section of this notice.

2. Cost Sharing or Matching: This program does not involve cost sharing or matching requirements, but does involve supplement-not-supplant funding provisions. (See the Supplement-Not-Supplant section of this notice.)

IV. Application and Submission Information

1. Address to Request Application Package: Nancy Essey, U.S. Department of Education, 400 Maryland Avenue, SW., room 11070, Potomac Center Plaza, Washington, DC 20202-7241. Telephone: (202) 245-7789. Fax: (202) 245-7170 or by e-mail: nancy.essey@ed.gov.

You may also obtain an application package via the Internet from the following address: http://www.ed.gov/GrantApps/.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit are in the application package for this competition. Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the résumés, the bibliography, the letters of support, or documentation of the applicant's eligibility. However, you must include all of the application narrative in Part III.

Our reviewers will not read any pages of your application that—

• Exceed the page limit if you apply these standards; or

• Exceed the equivalent of the page limit if you apply other standards.

3. Submission Dates and Times:

Applications Available: July 5, 2007.

Deadline for Transmittal of Applications: August 6, 2007.

Applications for grants under this program may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under FOR FURTHER INFORMATION CONTACT.

4. Intergovernmental Review: This program is not subject to Executive Order 12372.

5. Funding Restrictions: We reference regulations outlining funding restriction in the Applicable Regulations section of this notice.

6. Other Submission Requirements

Applications for grants under this competition may be submitted electronically or in paper format by mail or hand delivery.

a. Electronic Submission of Applications.

To comply with the President's Management Agenda, we are participating as a partner in the Governmentwide Grants.gov Apply site. NHCTEP, CFDA Number 84.259A, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for NHCTEP at http://www.Grants.gov. You must search for the downloadable application package for this competition by the CFDA number. Do not include the CFDA number's alpha suffix in your search (e.g., search for 84.259, not 84.259A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp.). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that the problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.259A), 400 Maryland Avenue, SW., Washington, DC 20202-4260; or

By mail through a commercial carrier: U.S. Department of Education, Application Control Center, Stop 4260, Attention: (CFDA Number 84.259A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.259A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

(1) Selection Criteria: The selection criteria for this program are as follows. The maximum score for each criterion and for each factor is indicated in parentheses. The maximum total score for these selection criteria is 110 points.

(a) Quality of the project design. (35 points) In determining the quality of the design of the proposed project, we consider the following factors:

(1) The extent to which the design of the proposed project is appropriate to and will successfully address the needs of the target population or other identified needs (as evidenced by data such as local labor market demand, occupational trends, and surveys). (5 points)

(2) The extent to which goals, objectives, and outcomes are clearly specified and measurable (for example, we look for clear descriptions of proposed student career and technical education activities; recruitment and retention strategies; expected enrollments, completions, and student placements in jobs, military specialties, and continuing education/training opportunities; the number of teachers, counselors, and administrators to be trained; and identification of requirements for each program of study to be provided under the project, including related training areas and a description of performance outcomes). (10 points)

(3) The extent to which the proposed project will establish linkages with other appropriate agencies (e.g. community, State, and other Federal resources) and organizations providing services to the target population in order to improve services to students and strengthen the proposed project. (5 points)

(4) The extent to which the services to be provided by the proposed project will create and offer activities that focus on improving the skills necessary to gain employment in high-skill, high-wage, and high-demand occupations, in emerging fields, or in a specific career field. (5 points)

(5) The extent to which the services proposed in the project will create opportunities for students to acquire skills identified by the State at the secondary level or by industry-recognized career and technical education programs for licensure, degree, certification, or as required by a career or profession. (5 points)

(6) The extent to which the project will provide opportunities for high-quality training or professional development services that— (5 points)

(i) Are of sufficient quality, intensity, and duration to lead to improvements in practice among instructional personnel;

(ii) Will improve and increase instructional personnel's knowledge and skills to help students meet challenging and rigorous academic and career and technical skill proficiencies;

(iii) Will advance instructional personnel's understanding of effective instructional strategies that are supported by scientifically-based research; and

(iv) Include professional development plans that clearly address ways in which learning gaps will be addressed and how continuous review of performance will be conducted to identify training needs. (5 points)

(b) Quality of the management plan. (15 points) In determining the quality of the management plan for the proposed project, we consider the following factors:

(1) The adequacy of the management plan to achieve the objectives of the proposed project on time and within budget, including clearly defined responsibilities, timelines, and the milestones and performance standards for accomplishing project tasks. (5 points)

(2) The extent to which the time commitments of the project director and other key project personnel, including instructors, are appropriate and adequate to meet the objectives of the proposed project. (5 points)

(3) The adequacy of procedures for ensuring feedback and continuous improvement in the operation of the proposed project. (5 points)

(c) Quality of project personnel. (25 points) In determining the quality of project personnel, we consider the following factors:

(1) The extent to which the applicant encourages applications for employment from persons who are members of groups that have traditionally been underrepresented based on race, color, national origin, gender, age, or disability. (5 points)

(2) The qualifications, including relevant training, expertise, and experience, of the project director. (5 points)

(3) The qualifications, including relevant training, expertise, and experience, of key project personnel, especially the extent to which the project will use instructors who are certified to teach in the field in which they will provide instruction. (10 points)

(4) The qualifications, including training, expertise, and experience, of project consultants. (5 points)

(d) Adequacy of resources. (15 points) In determining the adequacy of resources for the proposed project, we consider the following factors:

(1) The adequacy of support, including facilities, equipment, supplies, and other resources, from the applicant organization(s) and the entities to be served, including the relevance and demonstrated commitment (e.g., articulation agreements, memoranda of understanding, letters of support, or commitments to employ project participants) of the applicant, local employers, or entities to be served by the project. (5 points)

(2) The extent to which the budget is adequate and costs are reasonable in relation to the objectives and design of the proposed project. (5 points)

(3) The potential for continued support of the project after Federal funding ends. (5 points)

(e) Quality of the project evaluation. (20 points) In determining the quality of the evaluation, we consider the following factors:

(1) The extent to which the methods of evaluation proposed by the grantee are thorough, feasible, and appropriate to the goals, objectives, and outcomes of the proposed project. (5 points)

(2) The extent to which the methods of evaluation include the use of objective performance measures that are clearly related to the intended outcomes of the project and the performance measures discussed elsewhere in this notice and will produce quantitative and qualitative data, to the extent possible. (5 points)

(3) The extent to which the methods of evaluation will provide performance feedback and continuous improvement toward achieving intended outcomes. (5 points)

(4) The quality of the proposed evaluation to be conducted by an external evaluator with the necessary background and technical expertise to carry out the evaluation. (5 points)

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

We strongly encourage grantees to submit their reports through e-Reports, the Department's electronic performance reporting initiative.

4. Performance Measures: Under the Government Performance and Results Act of 1993 (GPRA), Federal departments and agencies must clearly describe the goals and objectives of their programs, identify resources and actions needed to accomplish these goals and objectives, develop a means of measuring progress made, and regularly report on their achievement. One important source of program information on successes and lessons learned is the project evaluation conducted under individual grants. The Department has developed the following core factors and measures for evaluating the overall effectiveness of the Native Hawaiian Career and Technical Education Program and projects supported under this competition. Consequently, we advise an applicant for a grant under this program to give careful consideration to these core factors and measures.

(a) Number of Projects. The number of secondary, postsecondary, and adult programs that—

(1) Apply industry-recognized skill standards so students can earn skill certificates in those projects; and

(2) Offer skill competencies, related assessments, and industry-recognized skill certificates in secondary and postsecondary institutions.

(b) Secondary Projects. The percentage of participating secondary career and technical education students who—

(1) Meet or exceed proficiency standards in reading/language arts and mathematics;

(2) Attain a secondary school diploma or its State-recognized equivalent, or a proficiency credential in conjunction with a secondary school diploma; and

(3) Attain career and technical education skill proficiencies aligned with industry-recognized standards; and

(4) Are placed in postsecondary education, advanced training, military service, or employment in high-skill, high-wage, and high-demand occupations or in current or emerging occupations.

(c) Postsecondary Projects. The percentage of participating postsecondary students in career and technical education programs who—

(1) Receive postsecondary degrees, certificates, or credentials;

(2) Attain career and technical education skill proficiencies aligned with industry-recognized standards;

(3) Receive industry-recognized credentials, certificates, or degrees;

(4) Are retained in postsecondary education or transfer to a baccalaureate degree program; and

(5) Are placed in military service or apprenticeship programs, or are placed in employment, receive an employment promotion, or retain employment.

(d) Adult Projects. The percentage of participating adult career and technical education students who—

(1) Enroll in a postsecondary education or training program;

(2) Attain career and technical education skill proficiencies aligned with industry-recognized standards;

(3) Receive industry-recognized credentials or certificates, or degrees; and

(4) Are placed in employment, receive an employment promotion, or retain employment.

Note: All grantees will be expected to submit an annual performance report addressing these performance measures, to the extent feasible and to the extent that they apply to each grantee's NHCTEP project.

VII. Agency Contacts

FOR FURTHER INFORMATION CONTACT: Nancy Essey, U.S. Department of Education, 400 Maryland Avenue, SW., room 11070, Potomac Center Plaza, Washington, DC 20202-7241. Telephone: (202) 245 -7789, or by e-mail: nancy.essey@ed.gov.

If you use a telecommunications device for the deaf (TDD), you may call the Federal Relay Service (FRS) at 1-800-877-8339.

Individuals with disabilities may obtain this notice in an alternative format (e.g., Braille, large print, audiotape, or computer diskette) on request to the program contact persons listed in this section.

Electronic Access to This Document: You may view this notice, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free access to the official edition of the Federal Register and the Code of Federal Regulations is available on GPO Access at: http://www.gpoaccess.gov/nara/index.html.

Dated: June 29, 2007.
Troy R. Justesen,
Assistant Secretary, Office of Vocational and Adult Education.

[FR Doc. E7-13022 Filed 7-3-07; 8:45 am]

BILLING CODE 4000-01-P